DEPARTMENT OF COMMERCE

National Oceanic and Atmospheric Administration

[I.D. 032200C]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Management Team (CPSMT) to hold a work session that is open to the public.

DATES: The work session will be held on Thursday, April 20, 2000 and Friday, April 21, 2000, from 8 a.m to 5 p.m. each day.

ADDRESSES: The work session will be held at NMFS Southwest Fisheries Science Center, 8604 La Jolla Shores Drive, Room D-203, La Jolla, CA.

Council address: Pacific Fishery Management Council, 2130 SW Fifth Avenue, Suite 224, Portland, OR 97201.

FOR FURTHER INFORMATION CONTACT: Dan Waldeck, Pacific Fishery Management Council, (503) 326-6352; or Dr. Doyle Hanan, California Department of Fish and Game, (619) 546-7170.

SUPPLEMENTARY INFORMATION: The primary purpose of this work session is to initiate several analyses requested by the Council. These include: (1) establish a capacity goal for the coastal pelagic species (CPS) finfish fishery and analyze transferability of CPS limited entry permits; (2) address disapproved portions of the CPS fishery management plan-develop alternatives for specifying maximum sustainable yield (MSY) and acceptable biological catch (ABC) for market squid, and management alternatives for assessing bycatch in CPS fisheries and measures to minimize bycatch and bycatch mortality in CPS fisheries; (3) initiate the 2000 stock assessment and fishery evaluation (SAFE) process for the CPS fishery, including preparation of the CPS SAFE document and consideration of developing a process to review Pacific sardine and Pacific mackerel stock assessments.

Although non-emergency issues not contained in the CPSMT meeting agenda may come before the CPSMT for discussion, those issues may not be the subject of formal CPSMT action during this meetings. CPSMT action will be restricted to those issues specifically listed in this notice and any issues arising after publication of this notice that require emergency action under section 305(c) of the Magnuson-Stevens Fishery Conservation and Management Act, provided the public has been notified of the CPSMT's intent to take final action to address the emergency.

Special Accommodations

These meetings are physically accessible to people with disabilities. Requests for sign language interpretation or other auxiliary aids should be directed to Mr. John Rhoton at (503) 326-6352 at least 5 days prior to the meeting date.

Dated: March 22, 2000.
Bruce C. Morehead,
Acting Director, Office of Sustainable Fisheries, National Marine Fisheries Service.

[FR Doc. 00-7706 Filed 3-28-00; 8:45 am]

BILLING CODE 3510-22-F